DEPARTMENT OF THE INTERIOR

Bureau of Land Management

[NV-930-1430-ET; NVN 73931]

Public Land Order No. 7566; Withdrawal of Public Lands for the Rhyolite Historic Site; Nevada

AGENCY: Bureau of Land Management, Interior.

ACTION: Public land order.

SUMMARY: This order withdraws 277.046 acres of public lands from surface entry and mining for a period of 20 years for the Bureau of Land Management to protect the Rhyolite historic site. The lands have been and will remain open to mineral leasing.

EFFECTIVE DATE: May 20, 2003.

FOR FURTHER INFORMATION CONTACT: Dennis Samuelson, BLM Nevada State Office, PO Box 12000, Reno, Nevada 89520, 775-861-6532.

Order

By virtue of the authority vested in the Secretary of the Interior by Section 204 of the Federal Land Policy and Management Act of 1976, 43 U.S.C. 1714 (1994), it is ordered as follows:

1. Subject to valid existing rights, the following described public lands are hereby withdrawn from settlement, sale, location, or entry under the general land laws, including the United States mining laws (30 U.S.C. Ch. 2 (1994)), but not the mineral leasing laws, to protect the Rhyolite Historic Site:

Mount Diablo Meridian

T. 12 S., R. 46 E.,

Secs. 9, 16, and 21;

All those certain lots, pieces, or parcels of land situate in the County of Nye, State of Nevada, described as follows:

Parcel 1: The sleeper lode mining claim designated by the Surveyor General as Survey No. 3156, embracing a portion of the unsurveyed public domain in the Bullfrog Mining District, Nye County, Nevada, and bounded and described in that certain Patent recorded in Book 395 of Official Records, Page 317 as File No. 89058, Nye County Nevada Records, which further stipulated that portion of ground in said mining claim which is embraced in Sang De Cristo lode claim or Survey No. 2472 and also all veins, lodes and ledges throughout their entire depth, the tops or apexes of which lie inside of such ground are expressly excepted and excluded from said land.

Parcel 2: The Terry Mine, Cyclops and Side Scope lode mining claims designated by the Surveyor General as Survey No. 2585, embracing a portion of the unsurveyed public domain in the Bullfrog Mining District, Nye County, Nevada, and bounded and described in that certain Patent recorded in Book 395 of Official Records, Page 333 as File No. 89062, Nye County, Nevada Records, which further stipulated that all that portion of ground described in said mining claims which is embraced in Survey Nos. 2422, 2457, and 2583, the Trail Fraction and Touch Me Not lode claims, unsurveyed, that portion of Survey No. 2384 in conflict with survey No. 2457 and also all veins, lodes and ledges throughout their entire depth, the tops or apexes of which lie inside of such ground are expressly excepted and excluded from said land.

Parcel 3: The Sang De Cristo lode mining claim designated by the surveyor General as Survey No. 2472, embracing a portion of the unsurveyed public domain in the Bullfrog Mining District, Nye County, Nevada, and bounded and described in that certain Patent recorded in Book 395 of Official Records, Page 343 as File No. 89064, Nye County Nevada Records, which further stipulated that portion of ground in said mining claim which is embraced in mining claim or Survey 2584, the White Monument lode claim Survey No. 2650, and also all veins, lodes and ledges throughout their entire depth, the tops or apexes of which lie inside of such ground are expressly excepted and excluded from said land.

Parcel 4: The White Monument, Bonanza Fraction and Trail Fraction lode mining claims designated by the Surveyor General as Survey No. 2650, embracing a portion of the unsurveyed public domain in the Bullfrog Mining District, Nye County, Nevada, and bounded and described in that certain Patent recorded in Book 17 of Deeds, Page 162 as File No. 36763, Nye County Nevada Records, which further stipulated that portion of ground in said mining claim which is embraced in mining claim or Survey No. 2584, the Terry mine and Cyclops lode claims Survey No. 2585, that portion of survey No. 2472 in conflict with the Bonanza Fraction lode calm and also all veins, lodes and ledges throughout their entire depth, the tops or apexes of which lie inside of such ground are expressly excepted and excluded from said land.

Parcel 5: The Golden Sceptre and Golden Sceptre No. 2 lode mining claims designated by the Surveyor General as Survey No. 2584, embracing a portion of the unsurveyed public domain in the Bullfrog Mining District, Nye County, Nevada, and bounded and described in that certain Patent recorded in Book 17 of Deeds, Page 169 as File No. 36764, Nye County Nevada Records.

Parcel 6: The Gold Wedge lode mining claim designated by the Surveyor General as Survey No. 2583, embracing a portion of the unsurveyed public domain in the Bullfrog Mining District, Nye County, Nevada, and bounded and described in that certain Patent recorded in Book 395 of Official Records, Page 352 as File No. 89065, Nye County Nevada Records, which further stipulated that portion of ground in said mining claim which is embraced in mining claims or Surveys 2457, 2487 and 2488 and also all veins, lodes and ledges throughout their entire depth, the tops or apexes of which lie inside of such ground are expressly excepted and excluded from said land.

Parcel 7: The East half (E½) of the Northeast quarter (NE¼) of the Southwest quarter (SW¼) of the Southeast quarter (SE¼) of Section 9, Township 12 South, Range 46 East, M.D.B.&M., according to the Official Plat of the surveys of said land on file in the Office of the Bureau of Land Management.

Parcel 8: The West half (W½) of the Northwest quarter (NW¼) of the Southeast quarter (SE¼) of the Southeast quarter (SE¼) of Section 9, Township 12 South, Range 46 East, M.D.B.&M., according to the Official Plat of the surveys of said land on file in the Office of the Bureau of Land Management.

Parcel 9: Lots 15, 19 and 40 of Section 9, Township 12 South, Range 46 East, M.D.B.&M., according to the Official Plat of the surveys of said land on file in the Office of the Bureau of Land Management.

Parcel 10: Lots 1, 19, and 20, and the Northeast (NE¼) quarter of the Northeast (NE¼) quarter of Section 16, Township 12 South, Range 46 East, M.D.B.&M., according to the Official Plat of the surveys of said land on file in the Office of the Bureau of Land Management.

Parcel 11: The Southwest quarter (SW¼) of the Southwest quarter (SW¼) of the Northeast quarter (NE¼) of the Northeast quarter (NE¼), the Southeast quarter (SE¼) of the Southeast quarter (SE¼) of the Northwest quarter (NW¼) of the Northeast quarter (NE¼), the East half (E½) of the Northeast quarter (NE¼) of the Southwest quarter (SW¼) of the Northeast quarter (NE¼), and the West half (W½) of the Northwest quarter (NW¼) of the Southeast quarter (SE¼) of the Northeast quarter (NE¼) of Section 21 , Township 12 South, Range 46 East, M.D.B.&M., according to the Official Plat of the surveys of said land on file in the Office of the Bureau of Land Management.

The areas described aggregate 277.046 acres in Nye County.

2. The withdrawal made by this order does not alter the applicability of those public land laws governing the use of the lands under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f) (1994), the Secretary determines that the withdrawal shall be extended.

Dated: April 25, 2003.
Rebecca W. Watson,
Assistant Secretary—Land and Minerals Management.

[FR Doc. 03-12601 Filed 5-19-03; 8:45 am]

BILLING CODE 4310-22-P